DEPARTMENT OF THE INTERIOR

National Park Service

[N6449; NPS-WASO-NAGPRA-NPS0040859; PPWOCRADN0-PCU00RP14.R50000]

Notice of Inventory Completion: The University of Kansas, Lawrence, KS

AGENCY: National Park Service, Interior.

ACTION: Notice.

SUMMARY: In accordance with the Native American Graves Protection and Repatriation Act (NAGPRA), the University of Kansas has completed an inventory of human remains and has determined that there is a cultural affiliation between the human remains and Indian Tribes or Native Hawaiian organizations in this notice.

DATES: Repatriation of the human remains in this notice may occur on or after September 17, 2025.

ADDRESSES: Send written requests for repatriation of the human remains in this notice to Dr. Thomas Torma, Repatriation Program Manager, The University of Kansas, Office of Audit, Risk, and Compliance, 1450 Jayhawk Boulevard, 351 Strong Hall, Lawrence, KS 66045, email t-torma@ku.edu.

SUPPLEMENTARY INFORMATION: This notice is published as part of the National Park Service's administrative responsibilities under NAGPRA. The determinations in this notice are the sole responsibility of the University of Kansas, and additional information on the determinations in this notice, including the results of consultation, can be found in its inventory or related records. The National Park Service is not responsible for the determinations in this notice.

Abstract of Information Available

Human remains representing at least nine individuals have been identified. No associated funerary objects are present. These individuals were excavated from the Woodruff Ossuary Site (14PH4) located in Phillips County, Kansas. This site was excavated in 1946 by Marvin Kivett as part of the River Basin Surveys by the Smithsonian Institute in preparation for the development of Harlan County Reservoir in Nebraska. The donor and exact date of acquisition by the University of Kansas are unknown. Based on records, this site is affiliated with the Keith Phase of the Late Woodland with a single radiocarbon date of 694±240 CE. There is no record of toxic substances having been used to treat these remains.

Cultural Affiliation

Based on the information available and the results of consultation, cultural affiliation is reasonably identified by the geographical location or acquisition history of the human remains described in this notice.

Determinations

The University of Kansas has determined that:

• The human remains described in this notice represent the physical remains of nine individuals of Native American ancestry.

• There is a connection between the human remains described in this notice and the Cheyenne River Sioux Tribe of the Cheyenne River Reservation, South Dakota; Kaw Nation, Oklahoma; and the Pawnee Nation of Oklahoma.

Requests for Repatriation

Written requests for repatriation of the human remainsin this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 17, 2025. If competing requests for repatriation are received, the University of Kansas must determine the most appropriate requestor prior to repatriation. Requests for joint repatriation of the human remains are considered a single request and not competing requests. The University of Kansas is responsible for sending a copy of this notice to the Indian Tribes and Native Hawaiian organizations identified in this notice.

Authority: Native American Graves Protection and Repatriation Act, 25 U.S.C. 3003, and the implementing regulations, 43 CFR 10.10.

Dated: August 6, 2025.
Melanie O'Brien,
Manager, National NAGPRA Program.

[FR Doc. 2025-15674 Filed 8-15-25; 8:45 am]

BILLING CODE 4312-52-P